DEPARTMENT OF TRANSPORTATION

National Highway Traffic Safety Administration

[Docket No. NHTSA-2020-0017]

Agency Information Collection Activities; Notice and Request for Comments; Motorcycle Rider Segmentation Study

AGENCY: National Highway Traffic Safety Administration (NHTSA), Department of Transportation (DOT).

ACTION: Notice and request for public comment on a proposed new collection of information.

SUMMARY: NHTSA invites public comments about our intention to request approval from the Office of Management and Budget (OMB) for a new collection of information. Before a Federal agency can collect certain information from the public, it must receive approval from OMB. Under procedures established by the Paperwork Reduction Act of 1995, before seeking OMB approval, Federal agencies must solicit public comment on proposed collections of information, including extensions and reinstatements of previously approved collections. This document describes an Information Collection Request (ICR) on a motorcycle rider segmentation study for which NHTSA intends to seek OMB approval.

DATES: Comments must be received on or before May 7, 2021.

ADDRESSES: You may submit comments identified by Docket Number NHTSA-2020-0017 through any of the following methods:

• Electronic submissions: Go to http://www.regulations.gov. Follow the online instructions for submitting comments.

• Mail: Docket Management Facility. M-30, U.S. Department of Transportation. 1200 New Jersey Avenue SE, West Building Ground Floor, Room W12-140, Washington, DC 20590.

• Hand Delivery or Courier: Docket Management, U.S. Department of Transportation, 1200 New Jersey Avenue SE, West Building, Room W12-140, Washington, DC 20590, between 9 a.m. and 5 p.m., Monday through Friday, except on Federal holidays. To be sure someone is there to help you, please call (202) 366-9322 before coming.

• Fax: (202) 493-2251.

Instructions: Each submission must include the agency name and the docket number for this notice. Note that all comments received will be posted without change to http://www.regulations.gov including any personal information provided. Please see the Privacy heading below.

• Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

• Docket: For access to the docket to read comments received, go to http://www.regulations.gov or the street address listed above. To be sure someone is there to help you, please call (202) 366-9322 before coming. Follow the online instructions for accessing the dockets.

FOR FURTHER INFORMATION CONTACT: For additional information or access to background documents, contact Kristin Rosenthal, Highway Safety Specialist, Safety Countermeasures Division, Office of Research and Program Development, National Highway Traffic Safety Administration, 1200 New Jersey Avenue SE, W44-213, Washington, DC 20590. Ms. Rosenthal's phone number is 202-366-8995, and her email address is Kristin.Rosenthal@dot.gov.

SUPPLEMENTARY INFORMATION: Under the Paperwork Reduction Act of 1995 (44 U.S.C. 3501 et seq.), before an agency submits a proposed collection of information to OMB for approval, it must publish a document in the Federal Register providing a 60-day comment period and otherwise consult with members of the public and affected agencies concerning each proposed collection of information. The OMB has promulgated regulations describing what must be included in such a document. Under OMB's regulations (at 5 CFR 1320. 8(d)), an agency must ask for public comment on the following: (i) whether the proposed collection of information is necessary for the proper performance of the functions of the agency, including whether the information will have practical utility; (ii) the accuracy of the agency's estimate of the burden of the proposed collection of information, including the validity of the methodology and assumptions used; (iii) how to enhance the quality, utility, and clarity of the information to be collected; and (iv) how to minimize the burden of the collection of information on those who are to respond, including the use of appropriate automated, electronic, mechanical, or other technological collection techniques or other forms of information technology, e.g., permitting electronic submission of responses. In compliance with these requirements, NHTSA asks for public comment on the following proposed collection of information for which the agency is seeking approval from OMB:

Title: Motorcycle Rider Segmentation Study

OMB Control Number/Type: New.

Form Number(s): NHTSA Form 1560, NHTSA Form 1561, NHTSA Form 1562, NHTSA Form 1563, NHTSA Form 1564, NHTSA Form 1565, NHTSA Form 1566, NHTSA Form 1565, and NHTSA Form 1568.

Type of Information Collection Request: New collection.

Type of Review Requested: Regular.

Requested Expiration Date of Approval: Three years from date of approval.

Summary of the Collection of Information: Title 23, United States Code, Chapter 4, Section 403 gives the Secretary authorization to use funds appropriated to carry out this section to conduct research and development activities, including demonstration projects and the collection and analysis of highway and motor vehicle safety data and related information with respect to all aspects of highway and traffic safety systems and conditions relating to vehicle, highway, driver, passenger, motorcyclist, bicyclist, and pedestrian characteristics; accident causation and investigations; and human behavioral factors and their effect on highway and traffic safety, including impaired driving. NHTSA is seeking approval to collect information through web-based surveys and intercept surveys (data will be entered into an electronic tablet) from motorcycle riders (the person operating the motorcycle) and passengers (a person seated on, but not operating, the motorcycle) in five defined risk-taking segments (males who ride while impaired, males and females who ride without using personal protective equipment, males who speed when they ride, males who stopped riding for a period of time and are returning to riding, and females who are passengers on motorcycles). These five segments are identified in detail in Table 1.

Table 1—Motorcycle Survey Segments
Segment | Type | Sex | Age | Bike | Target group | Survey focus
1 | Solo Rider | Male | 40 or older | Cruiser | Rides while impaired | Impaired Driving.
2 | Solo Rider | Male and Female | 40 or older | Cruiser | Rides while impaired | Helmet & Personal Protective Equipment (PPE).
3 | Nonowner rider (i.e., passenger) | Female | 18 or older | Any type | Passenger of rider who is impaired or speeds, lack of PPE | Impaired driving, female empowerment to make their own decisions.
4 | Solo Rider | Male | 40 or older | Any type | Returning rider | Risk assessment (i.e., engine cylinder volume, exposure, retraining).
5 | Solo Rider | Male | 29 or younger | Sport | Regularly speeds in traffic | Risk assessment (i.e., variable speed, PPE).

The purpose of this effort is to study these five segments of the motorcycle rider/passenger population to better understand each segment's unique safety challenges and risks and, ultimately, provide reliable information for NHTSA's development of a long-range intervention program. At a minimum, the envisioned long-range intervention program would include relevant messaging based on survey focus (messaging meant to reduce risks such as riding while impaired, speeding, lack of personal protective equipment and helmet use, lack of training, and unfamiliar motorcycle dynamics). For female passengers, messaging may involve empowerment to make their own decisions and encouragement to not get on a motorcycle with a rider who is impaired or undertakes risky behaviors. Additional risk factors may be described and addressed as a result of the research. The empirical results from this study are intended to promote data-driven decision-making regarding messaging and other safety program activities targeting the five motorcycle rider/passenger segments.

Information from riders will be collected from five States: California, Florida, Maryland, North Carolina, and Washington. NHTSA proposes to collect information from approximately 1,000 riders in each of the four rider-based segments (total of 4,000 respondents). In order to reach this sample size, NHTSA intends to distribute the surveys to up to 10,000 people per segment. Information will be collected for up to two segments per State, but no person will receive more than one survey. Information for the female-passenger segment will be collected during a yet-to-be-determined large motorcycle event, such as the Sturgis Motorcycle Rally in South Dakota or Bike Week in Daytona, Florida.

NHTSA will conduct a pilot of each survey with nine (9) representatives of each rider segment prior to conducting the actual survey. The pilot will be conducted in the same manner as the actual survey, with the same States participating. The pilot for the female passenger survey will be conducted at a smaller-scale motorcycle event.

Participants for the web-based survey will first receive a letter inviting them to complete the survey. Participants will receive a letter via the United States Postal Service (USPS) because DMV records are unlikely to have email addresses for everyone. The paper invitation will direct participants to a website to fill out the survey. The invitation will include the link to the survey (participants would have to type this into their browser), a QR code that the participant can scan to get to the online survey, and a PIN unique to each participant that they must enter when they go to the online survey. To reduce the handling of personally identifiable information (PII), each State DMV or licensing agency will handle the mailing of the survey invitation letter to motorcycle owners based on motorcycle registrations, age, citations related to the particular segment (i.e., driving while impaired, speeding, or failure to wear a helmet), and gender specific to each segment. NHTSA will provide a memorandum of understanding with each State agency that will describe the process for distributing the survey information and the sharing of data. NHTSA has funding available to compensate each State for this effort.

For the female passenger intercept surveys, researchers will attend the selected event and ask female attendees if they would be willing to complete a survey for which they will be compensated. All surveys will be completed on a one-on-one basis with each respondent, with respondents entering their data in the survey via electronic device.

The surveys will begin with a set of screening questions to ensure the respondent fits within the corresponding segment being studied and will exclude participants who do not fit into the segment. All people who receive an invitation to the survey will receive a $1 noncontingent incentive, and those who complete the survey will receive a $25 gift card. At the end of the survey, the participant will receive a link to receive a TANGO Card,¹ which allows for electronic or hard-copy delivery, never expires, and has no fees associated with purchase or use. Participants can choose to select their digital gift cards from a catalog of retailers such as Walmart, Amazon, Starbucks, Target, restaurants, etc. Incentives can also be turned over to charitable organizations if desired by the participant.

¹ https://www.tangocard.com/.

Following the screening questions, the respondents will be given approximately 40-60 questions specific to the survey's associated segment. The questions will be a combination of multiple choice, fill in the blank, and Likert scale (a five-point scale that is used to allow the respondent to express how much they agree or disagree with a particular statement), and may include responding to sounds and/or images. The survey website will be developed to be Section 508 compliant. The survey will be hosted in a secure environment and will not collect any PII. Each respondent will enter his or her unique identifier, which will be used to ensure each respondent only responds once and will also enable the data to be tied to specific driver information such as impaired driving arrests, crashes, or failure to wear a helmet, where such data may be obtained.

This collection is solely reporting, and there are no record-keeping costs to the respondents. NHTSA will use the information to produce a technical report that presents the results of the study. The technical report will provide aggregate (summary) statistics and tables as well as the results of statistical analysis of the information, but it will not include any personal information. The technical report will be shared with State highway safety offices, motorcycle safety advocacy groups and organizations, local governments, and those who develop traffic safety communications that aim to reduce motorcycle-related crashes. The total estimated burden for recruiting participants by the States (6,676 hours), for reading of the invitation by potential participants (1,400 hours), for pilot testing of all surveys (36 hours) and for 4,500 participants to complete the survey (3,542 hours) is 11,654 total hours.

Description of the Need for the Information and Proposed Use of the Information: NHTSA was established to reduce deaths, injuries, and economic losses resulting from motor vehicle crashes on the Nation's highways. As part of this statutory mandate, NHTSA is authorized to conduct research for the development of traffic safety programs. While motorcycles account for less than one percent of vehicle miles traveled, in 2017 they accounted for 14 percent of all traffic fatalities.² Data about motorcyclists may suggest that they are a disproportionally risk-taking population. Twenty-nine percent of motorcyclists killed in collisions were operating without a valid driver's license, which is higher than the 13 percent for passenger car drivers. Thirty-two percent of all motorcyclist fatalities involved speeding, compared to 18 percent for passenger car drivers. Twenty-eight percent of motorcyclist fatalities had a blood alcohol concentration (BAC) at or above 0.08 g/dL; this number increased to 42 percent at night.

² https://crashstats.nhtsa.dot.gov/Api/Public/ViewPublication/812785.

However, motorcyclists are not a homogeneous group, varying in their reasons for riding, the type of motorcycle they own or ride, the places and times they ride, the personal protective equipment they use, and their risk-taking behavior—all of which impact their safety and risk for certain collision outcomes. NHTSA has identified five segments of the riding population for which risk-taking can be better understood. A data-driven approach to assessing risk-taking will enable NHTSA to strategically and cost-effectively target interventions that can improve motorcyclist safety.

Affected Public: For segments 1, 2, 4, and 5, surveys will be sent only to people in the respective State DMV database who have a motorcycle endorsement, have received citations related to the particular segment (i.e., driving while impaired, speeding, or failure to wear a helmet), have the specific type of motorcycle specific to the segment (e.g., sport bike), are the defined sex for the segment, and fall within the age range for the segment. For Segment 3, participants will be females in attendance at a large-scale motorcycle event.

Estimated Number of Respondents: 4,545.

Participation in this study will be voluntary, and approximately 40,000 participants will be invited to take the four rider-segment surveys and approximately 2,000 participants will be recruited to take the female passenger intercept survey. It is estimated that 1,000 participants will complete the survey for each of the four rider segments (total of 4,000 participants) and 500 participants will complete the female passenger survey. In addition, 9 participants from each segment will be invited to take the pilot surveys, for a total of 45 pilot participants.

Frequency: This survey is a one-time information collection, and there will be no recurrence.

Estimated Total Burden Hours

Estimated Burden Hours for Participating States

The estimated time for States to send invitation letters to all possible respondents is 10 minutes per person. Therefore, multiplying the number of minutes per invitation by the number of invitations to send per segment and rounding, there are 2 hours spent per segment in the pilot (9 invitations × 10 min./60 = 1.5) and 1,667 hours per segment for the full survey (10,000 invitations × 10 min./60 = 1,666.7). The total rounded burden hours for all segments that involve sending an invitation (Segments 1, 2, 4, and 5) is 6,676 hours [8 hours for the pilot (2 hours × 4) and 6,668 hours for the full survey (1,667 hours × 4)]. Each segment will be divided across two States with each State sending surveys to no more than two segments. The total hours per segment for participating States are detailed in Table 2.

Table 2—Estimated Total Burden Hours for Participating States
Segment | Time to send invitation per letter (minutes) | Pilot survey: Number of invitation letters | Pilot survey: Burden hours per segment | Full survey: Number of invitation letters | Full survey: Burden hours per segment | All surveys (pilot & full): Total burden hours per segment | All surveys (pilot & full): Total burden hours per state *
1 | 10 | 9 | 2 | 10,000 | 1,667 | 1,669 | 835
2 | 10 | 9 | 2 | 10,000 | 1,667 | 1,669 | 835
3 | N/A | N/A | N/A | N/A | N/A | N/A | N/A
4 | 10 | 9 | 2 | 10,000 | 1,667 | 1,669 | 835
5 | 10 | 9 | 2 | 10,000 | 1,667 | 1,669 | 835
Total |  | 36 | 8 | 40,000 | 6,668 | 6,676 | Max hours per State—1,670.
* Each State will send survey invitations to half of the sample size of a segment for up to two segments (e.g., 5,000 participants in Segment 1 and 5,000 participants in Segment 2).

Estimated Total Labor Costs for Participating States

The labor cost associated with this collection of information for participating States is derived by (1) applying the appropriate average hourly labor rate published by the Bureau of Labor Statistics, (2) dividing by 0.619 (61.9%) ³ for state and local government workers, to obtain the total cost of compensation, and (3) multiplying by the estimated burden hours for each segment. To arrive at the cost per segment for each State, the total segment cost must be divided in half since survey invitations for each segment will be divided across two States, with each State sending surveys to no more than two segments. Labor costs associated with States to send invitation letters are estimated to be $28.09 per hour for “Mail Clerks and Mail Machine Operators, Except Postal Service,” Occupation Code 43-9051, ($17.39 ⁴ per hour ÷ 0.619). The estimated labor cost for participating States for each segment for the pilot is estimated to be $56.18 rounded to $56.00 ($28.09 × 2 hours) and the estimated labor cost for each segment for the full survey is estimated to be $46,826.03 rounded to $46,826 ($28.09 × 1,667 hours). Therefore, the estimated total rounded labor costs for participating States for all segments that involve sending an invitation (Segments 1, 2, 4, and 5) is $187,528 ($224 for the pilot ($56.00 × 4 = $224) and $187,304 for the full survey ($46,826 × 4 = $187,304)). Each State will receive an estimated $10,000 stipend from NHTSA for their assistance with mailing the surveys. The stipend funding has been included in the contract for conducting this survey and is not an additional cost for NHTSA. Additional benefits for a State DMV participation other than the stipend is it provides research that will inform future programs for motorcycle safety. This could lead to programs, resources and product development, and other items that promote motorcycle safety. The maximum estimated labor costs for the burden hours per State is $36,882, after the stipend provided by NHTSA. The burden costs for participating States are detailed in Table 3 below:

³ See Table 1. Employer Costs for Employee Compensation by ownership (June 2020), available at https://www.bls.gov/news.release/ecec.t01.htm (accessed November 23, 2020).

⁴ See May 2019 National Occupational Employment and Wage Estimates by ownership, Federal, state, and local government including the U.S. Postal Service, available at https://www.bls.gov/oes/current/999001.htm#43-0000 (accessed November 23, 2020).

Table 3—Estimated Total Labor Costs per Segment for Participating States
Segment | Average hourly labor cost | Pilot survey: Burden hours per segment | Pilot survey: Labor cost per segment | Full survey: Burden hours per segment | Full survey: Labor cost per segment | All surveys (pilot & full): Total labor costs per segment | All surveys (pilot & full): Total labor cost per state
1 | $28.09 | 2 | $56.00 | 1,667 | $46,826.00 | $46,882.00 | $23,441.00
2 | 28.09 | 2 | 56.00 | 1,667 | 46,826.00 | 46,882.00 | 23,441.00
3 | N/A | N/A | N/A | N/A | N/A | N/A | N/A
4 | 28.09 | 2 | 56.00 | 1,667 | 46,826.00 | 46,882.00 | 23,441.00
5 | 28.09 | 2 | 56.00 | 1,667 | 46,826.00 | 46,882.00 | 23,441.00
Totals |  | 8 | 224.00 | 6,668 | 187,304.00 | 187,528.00 | Max Cost Per State—$46,882 less $10,000 NHTSA stipend = $36,882.00.

Estimated Burden Hours for Survey Participants and Nonrespondents

The total burden hours for potential survey participants are derived by estimating the number of minutes each potential participant would spend on reading the survey invitation and multiplying by the number of potential participants. Approximately 40,000 potential participants will receive an invitation to take one of the four rider-segment surveys and approximately 2,000 potential participants will be recruited to take the female passenger intercept survey. NHTSA estimates that each potential participant will spend up to 2 minutes reading and reviewing the invitation; therefore, the total burden hours for recruiting participants is estimated to be 1,400 hours ((40,000 x 2/60) + (2,000 x 2/60)), as shown in Table 4.

Table 4—Estimated Recruitment Burden Hours
Segment | Time to read invitation (minutes) | Number of potential participants | Total time per segment (hours)
Riders | 2 | 40,000 | 1,333
Passengers | 2 | 2,000 | 67
Total Est. Recruitment Burden Hours |  |  | 1,400

For participants who decide to take the survey, each survey includes approximately 5 minutes for screening questions and between 30 and 50 minutes to take the survey. The estimated time for the pilot participants who take the survey is 36 hours and the estimated time for the full survey participants is 3,542 hours. Therefore, the total burden hours for the full survey for all segments is 3,578 hours (3,281 hours for riders and 297 hours for passengers). The burden hours for respondents are detailed in Table 5. Burden hours were estimated using 1 minute to read the introduction, 30 seconds per multiple choice question, and 1 minute per multiple answer question.

Table 5—Estimated Burden Hours for Respondents
Segment | Estimated time to complete survey | Pilot survey: Number of respondents | Pilot survey: Burden hours per segment | Full survey: Number of respondents | Full survey: Burden hours per segment | Total est. burden hours per segment
1 | 40 | 9 | 6 | 1,000 | 667 | 673
2 | 50 | 9 | 8 | 1,000 | 833 | 841
3 | 35 | 9 | 5 | 500 | 292 | 297
4 | 55 | 9 | 9 | 1,000 | 917 | 926
5 | 50 | 9 | 8 | 1,000 | 833 | 841
Total | 230 | 45 | 36 | 4,500 | 3,542 | 3,578

Therefore, the total burden hours for survey participants and nonrespondents for the pilot and full survey for all segments is 4,978 hours (1,400 hours for recruitment and 3,578 hours for respondents).

Estimated Total Burden Hour Opportunity Costs for Survey Participants

The burden hour cost associated with this collection of information for respondents is derived by multiplying the appropriate average American wage published by the Bureau of Labor Statistics by the estimated burden hours for participants for each segment. The average American wage is estimated to be $29.81 per hour for “all employees on private nonfarm payrolls.⁵” The estimated opportunity cost for participants for each segment for the pilot and full survey is $106,660.00, detailed in Table 6.

⁵ See Table B-3. Average hourly and weekly earnings of all employees on private nonfarm payrolls by industry sector, seasonally adjusted, available at https://www.bls.gov/news.release/empsit.t19.htm (accessed January 28, 2021).

Table 6—Estimated Opportunity Costs for Respondents
Segment | Average hourly wage | Pilot survey: Burden hours per segment | Pilot survey: Opportunity cost per segment (rounded) | Full survey: Burden hours per segment | Full survey: Opportunity cost per segment (rounded) | All surveys (pilot & full): Total opportunity cost per segment (rounded)
1 | $29.81 | 6 | $179.00 | 667 | $19,883.00 | $20,062.00
2 | 29.81 | 8 | 238.00 | 833 | 24,832.00 | 25,070.00
3 | 29.81 | 5 | 149.00 | 292 | 8,705.00 | 8,854.00
4 | 29.81 | 9 | 268.00 | 917 | 27,336.00 | 27,604.00
5 | 29.81 | 8 | 238.00 | 833 | 24,832.00 | 25,070.00
Totals |  | 36 | 1,072.00 | 3,542 | 105,588.00 | 106,660.00

Total Estimated Burden Hours: The total estimated burden for recruiting participants by the States (6,676 hours), for reading of the invitation by potential participants (1,400 hours), for pilot testing of all surveys (36 hours) and for 4,500 participants to complete the survey (3,542 hours) is 11,654 total hours.

Total Estimated Burden Cost: Participation in this study is voluntary, and there are no actual costs to respondents beyond the time spent completing the questionnaires.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Issued in Washington, DC.
Nanda Narayanan Srinivasan,
Associate Administrator, Research and Program Development.

[FR Doc. 2021-04777 Filed 3-5-21; 8:45 am]

BILLING CODE 4910-59-P